DEPARTMENT OF THE INTERIOR

Bureau of Indian Affairs

Proclaiming Certain Land as Reservation for the Pueblo of Laguna of New Mexico

AGENCY: Bureau of Indian Affairs, Interior.

ACTION: Notice of Reservation Proclamation.

SUMMARY: This notice informs the public that the Assistant Secretary—Indian Affairs proclaimed approximately 651.6965 acres, more or less, located in Tract B, and Lot 16 as indicated in Exhibit A, attached to the Warranty Deed, approved April 10, 2003, as an addition to the Pueblo of Laguna Reservation (Laguna).

FOR FURTHER INFORMATION CONTACT: Ben Burshia, Bureau of Indian Affairs, Division of Real Estate Services, Mail Stop 4639-MIB, 1849 C Street, NW., Washington, DC 20240, telephone (202) 208-7737.

SUPPLEMENTARY INFORMATION: This notice is published in the exercise of authority delegated by the Secretary of the Interior to the Assistant Secretary—Indian Affairs by part 209 of the Departmental Manual.

A proclamation was issued, according with Section 7 of the Act of June 18, 1934 (48 Stat. 986; 25 U.S.C. 467), for the tract of land described below. The land was proclaimed to be an addition to and part of the Laguna Reservation for the exclusive use of Indians on that reservation who are entitled to reside on the reservation by enrollment or tribal membership.

New Mexico Principal Meridian

Valencia County, New Mexico

A parcel of land, containing 651.6965 acres, more or less, located in Tract B of the Division Plat for Lands of Grady Day, within Sections 3 and 10, Township 8 North, Range 3 West, N.M.P.M., containing 650.1565 acres, more or less, as indicated in Exhibit A, attached to the Warranty Deed, dated April 10, 2003; and

Lot Sixteen (16), Block One (1), Unit (4), Highland Meadows Estates, containing 1.54 acres, more or less, also indicated in Exhibit A, and according to the Plat as filed for record on July 2, 1970, in File Number 54-A, in the Office of the County Clerk of Valencia County, New Mexico.

The above-described lands contain a total of 651.6965 acres, more or less, as indicated in Exhibit A, attached to the Warranty Deed approved April 10, 2003, which are subject to all valid rights, reservations, rights-of-way, and easements of record.

This proclamation neither affects title to the land described above, nor does it affect any valid existing easement for public roads and highways, for public utilities or for railroads and pipelines, and any other rights-of-way or reservations of record.

Dated: March 24, 2007.
Carl J. Artman,
Assistant Secretary—Indian Affairs.

[FR Doc. E7-6387 Filed 4-4-07; 8:45 am]

BILLING CODE 4310-W7-P